DEPARTMENT OF DEFENSE

GENERAL SERVICES ADMINISTRATION

NATIONAL AERONAUTICS AND SPACE ADMINISTRATION

48 CFR Part 52

Federal Acquisition Regulation; Leadership in Environmental Management (E.O. 13148)

CFR Correction

In Title 48 of the Code of Federal Regulations, Chapter 1 (Parts 52 to 99), revised as of October 1, 2004, on page 58, in 52.213-4, the second paragraph (b)(1)(vii) is removed and the paragraph following (b)(1)(i), also designated as (vii), is inserted in its place, and paragraph (b)(1)(ii) is reinstated to read as follows:

52.213-4 Terms and Conditions—Simplified Acquisitions (Other Than Commercial Items).

* * * * *

(b) * * *

(1) * * *

(ii) 52.222-20, Walsh-Healey Public Contracts Act (Dec 1996) (41 U.S.C. 35-45) (Applies to supply contracts over $10,000 in the United States, Puerto Rico, or the U.S. Virgin Islands).

* * * * *

[FR Doc. 05-55509 Filed 8-10-05; 8:45 am]

BILLING CODE 1505-01-D